DEPARTMENT OF DEFENSE

Department of the Navy

Notice of Public Meetings for the Supplement to the Draft Environmental Impact Statement/Overseas Environmental Impact Statement for Military Readiness Activities in the Northwest Training and Testing Study Area

AGENCY: Department of the Navy; DoD.

ACTION: Notice.

SUMMARY: The Department of the Navy (DoN) has prepared and filed with the U.S. Environmental Protection Agency a Supplement to the Draft Environmental Impact Statement/Overseas Environmental Impact Statement (EIS/OEIS) for the Northwest Training and Testing (NWTT) Study Area. This Supplement to the Draft EIS/OEIS focuses on substantial changes in the Proposed Action and new information relevant to environmental concerns per 40 Code of Federal Regulations (CFR) 1502.9. The Supplement to the Draft EIS/OEIS also provides additional updated information to further the purposes of the National Environmental Policy Act (NEPA). Unless specifically included in the Supplement to the Draft EIS/OEIS, the activities and analyses of impacts on resources described in the Draft EIS/OEIS remain valid, and are included by reference in the Supplement to the Draft EIS/OEIS.

With the filing of the Supplement to the Draft EIS/OEIS, the DoN is initiating a 45-day public comment period and has scheduled four public meetings to provide information and receive comments on the Supplement to the Draft EIS/OEIS. This notice announces the dates and locations of the public meetings and provides supplementary information about the environmental planning effort.

Dates and Addresses: The 45-day public review and comment period for the Supplement to the Draft EIS/OEIS is December 19, 2014, through February 2, 2015. The DoN will hold four public meetings to inform the public about the Supplement to the Draft EIS/OEIS and potential environmental impacts, and to provide an additional opportunity for the public to comment on the Supplement to the Draft EIS/OEIS. The public meetings will include an open house information session, during which time NWTT EIS/OEIS team representatives will be available to provide information, answer questions, and accept comments on the Supplement to the Draft EIS/OEIS. The public can arrive any time during the advertised hours; the open house will not include a formal presentation or verbal comment session. Federal, state, local agencies and officials, and interested organizations and individuals are encouraged to provide comments in writing during the public review period or in person at one of the scheduled public meetings.

The public meetings will be held from 5 to 8 p.m. on the following dates and at the following locations:

1. Monday, January 12, 2015, at the Poulsbo Fire Station Conference Room, 911 NE Liberty Road, Poulsbo, WA 98370.

2. Tuesday, January 13, 2015, at the Grays Harbor College HUB, 1620 Edward P. Smith Drive, Aberdeen, WA 98520.

3. Wednesday, January 14, 2015, at the Isaac Newton Magnet School Commons, 825 NE Seventh St., Newport, OR 97365.

4. Friday, January 16, 2015, at Eureka Public Marina, Wharfinger Building, Great Room, 1 Marina Way, Eureka, CA 95501.

Attendees will be able to submit comments during the public meetings. A court reporter will be available for any attendees wishing to provide verbal comments, one-on-one. Equal weight will be given to verbal and written statements. Comments may also be submitted via mail to Naval Facilities Engineering Command Northwest, Attention: Ms. Kimberly Kler—NWTT EIS/OEIS Project Manager, 1101 Tautog Circle, Suite 203, Silverdale, WA 98315-1101, or electronically via the project Web site (www.NWTTEIS.com). All comments, verbal or written, submitted during the review period will become part of the public record. All comments will be considered and acknowledged or responded to in the Final EIS/OEIS. The DoN may address the comments directly, or the DoN may respond to public comments by modifying the analysis as appropriate. Comments must be postmarked or received online by February 2, 2015, for consideration in the Final EIS/OEIS.

All public comments received during the Draft EIS/OEIS comment period (January 24, 2014, through April 15, 2014) are still valid and are being considered in the Final EIS/OEIS for this action. Previously submitted comments need not be resubmitted. No decision will be made to implement any alternative in the NWTT Study Area until the NEPA process is complete and a Record of Decision is signed by the DoN.

FOR FURTHER INFORMATION CONTACT: Naval Facilities Engineering Command Northwest, Attention: Ms. Kimberly Kler—NWTT EIS/OEIS Project Manager, 1101 Tautog Circle, Suite 203, Silverdale, WA 98315-1101.

SUPPLEMENTARY INFORMATION: Pursuant to section 102(2)(c) of NEPA, regulations implemented by the Council on Environmental Quality (40 CFR parts 1500-1508), and Presidential Executive Order 12114, the DoN announced its intent to prepare an EIS/OEIS for the NWTT Study Area in the Federal Register (FR) on February 27, 2012 (77 FR 11497), and invited the public to comment on the scope of the EIS/OEIS. A Draft EIS/OEIS was subsequently released on January 24, 2014 (79 FR 4158), in which the potential environmental effects associated with military readiness training and research, development, test, and evaluation activities (training and testing) conducted within the NWTT Study Area were evaluated.

Since the release of the NWTT Draft EIS/OEIS on January 24, 2014, the DoN determined that updated training requirements or new information would result in changes to the Proposed Action or analysis, and warranted the preparation of a Supplement to the Draft EIS/OEIS for two reasons. First, the type and number of sonobuoys used during one activity, known as Tracking Exercise—Maritime Patrol (Extended Echo Ranging Sonobuoys), would substantially change. This change in the Proposed Action warranted preparation of a Supplement to the Draft EIS/OEIS under 40 CFR 1502.9(c)(1)(i). Second, new information available on air emissions from inland water vessel movements associated with the ongoing activity of Maritime Security Operations warranted further consideration and preparation of a Supplement to the Draft EIS/OEIS under 40 CFR 1502.9(c)(1)(ii). A Notice of Intent announcing the DoN's intent to prepare a Supplement to the NWTT Draft EIS/OEIS was released on October 24, 2014 (79 FR 63610). The National Marine Fisheries Service and the U.S. Coast Guard are cooperating agencies on the EIS/OEIS.

The Supplement to the Draft EIS/OEIS was distributed to federal, state, and local agencies, elected officials, and other interested organizations and individuals. Copies of the Supplement to the Draft EIS/OEIS are available for public review at the following locations:

1. Everett Main Library, 2702 Hoyt Ave., Everett, WA 98201

2. Gig Harbor Library, 4424 Point Fosdick Drive NW., Gig Harbor, WA 98335

3. Jefferson County Library (Port Hadlock), 620 Cedar Ave., Port Hadlock, WA 98339

4. Kitsap Regional Library (Poulsbo), 700 NE Lincoln Road, Poulsbo, WA 98370

5. Kitsap Regional Library—Sylvan Way (Bremerton), 1301 Sylvan Way, Bremerton, WA 98310

6. Oak Harbor Public Library, 1000 SE Regatta Drive, Oak Harbor, WA 98277

7. Port Angeles Main Library, 2210 S. Peabody St., Port Angeles, WA 98362

8. Port Townsend Public Library, 1220 Lawrence St., Port Townsend, WA 98368

9. Timberland Regional Library—Aberdeen, 121 E. Market St., Aberdeen, WA 98520

10. Timberland Regional Library—Hoquiam, 420 Seventh St., Hoquiam, WA 98550

11. Astoria Public Library, 450 10th St., Astoria, OR 97103

12. Driftwood Public Library, 801 SW Highway 101 #201, Lincoln City, OR 97367

13. Newport Public Library, 35 NW Nye St., Newport, OR 97365

14. Guin Library, Hatfield Marine Science Center, 2030 SE Marine Science Drive, Newport, OR 97365

15. Tillamook Main Library, 1716 Third St., Tillamook, OR 97141

16. Fort Bragg Branch Library, 499 Laurel St., Fort Bragg, CA 95437

17. Redwood Coast Senior Center, 490 N. Harold St., Fort Bragg, CA 95437

18. Humboldt County Public Library—Arcata Branch Library, 500 Seventh St., Arcata, CA 95521

19. Humboldt County Public Library—Eureka Main Library, 1313 Third St., Eureka, CA 95501

20. Juneau Public Library—Downtown Branch, 292 Marine Way, Juneau, AK, 99801

21. Ketchikan Public Library, 1110 Copper Ridge Lane, Ketchikan, AK 99901

The Supplement to the Draft EIS/OEIS is also available for electronic viewing at www.NWTTEIS.com. A compact disc of the Supplement to the Draft EIS/OEIS will be made available upon written request by contacting: Naval Facilities Engineering Command Northwest, Attention: Ms. Kimberly Kler—NWTT EIS/OEIS Project Manager, 1101 Tautog Circle, Suite 203, Silverdale, WA 98315-1101.

Authority: 35 U.S.C. 207, 37 CFR part 404.

Dated: December 16, 2014.
P.A. Richelmi,
Lieutenant, Federal Alternate Register Liaison Officer, Office of the Judge Advocate General, U.S. Navy.

[FR Doc. 2014-29859 Filed 12-19-14; 8:45 am]

BILLING CODE 3810-FF-P